DEPARTMENT OF TRANSPORTATION

Federal Aviation Administration

Development of Voluntary Consensus Standards for Electrical System Wiring Practices on Small Airplanes

AGENCY: Federal Aviation Administration (FAA), DOT.

ACTION: Notice; request for comments.

SUMMARY: This notice requests comments on voluntary consensus standards for electrical system wiring practices on general aviation small airplanes. In addition, the FAA requests comments from nongovernmental standards developing organizations (SDO) on their interest in developing such standards. This information will help the FAA determine the types of markets best suited to develop these standards for possible inclusion in the maintenance programs for general aviation small airplanes.

ADDRESSES: Barry Ballenger, Aerospace Engineer, FAA, Small Airplane Directorate, Continued Operational Safety Branch, ACE-113, 901 Locust, Room 301, Kansas City, Missouri 64106; telephone (816) 329-4152; fax (816) 329-4149; e-mail barry.ballenger@faa.gov.

FOR FURTHER INFORMATION CONTACT: If you need added information, you may contact the person listed under the ADDRESSES section of this notice.

SUPPLEMENTARY INFORMATION:

Comments Invited

The FAA invites interested persons to respond to this notice by giving answers to the questions in the notice. Please ensure your reply gives your organization's name, address, and contact information. The FAA is particularly interested in comments from persons actively involved in voluntary standards development or are considering setting up a program for developing voluntary standards for electrical system wiring practices on general aviation small airplanes.

You may send your response to the person listed under the ADDRESSES section of this notice no later than August 15, 2003. The FAA will accept and consider all comments.

You should not send proprietary information by e-mail. If you believe any portion of the information you send is entitled to treatment as proprietary, you must claim confidentiality under 49 CFR part 7 for each portion. This claim must be made at the time the information is sent to the FAA. You should clearly mark all comments containing proprietary information.

Background

The National Technology Transfer and Advancement Act of 1995 encourages cooperative research and development efforts between the public and private sectors to bring technology and industrial innovations to the marketplace. With this in mind, the FAA seeks to gather information about how active standards developing organizations (SDO) are in determining standards for electrical system wiring practices on general aviation small airplanes. The FAA also wants to know the expertise available in this area. The FAA is especially interested in working with nongovernmental SDOs to promote development of voluntary consensus standards for these airplanes and get their comments on whether FAA should adopt these standards.

Information Requested

In addition to any general comments from interested parties, FAA specifically requests the following information from responding SDOs:

1. Does the organization develop standards for specific business or industry sectors (namely, automotive, aviation, and so forth) or does it develop standards in all areas?

2. Does the organization work under the American National Standards Institute (ANSI) procedures, or does it have other written procedures it uses for standards development? If available, please provide a copy.

3. Does the organization have, or plan to have, standards development that focus on, or that integrate the design, installation, maintenance, inspection, repair, and modification criteria of electrical systems as part of the scope of the standard(s)?

These standards would address cleaning procedures, wire and cable identification, wire and cable damage limits, installation clamping and routing methods, repair and replacement practices, inspection methods, and any other item that would provide a consistent way to ensure the continued airworthiness of installed electrical systems on small general aviation airplanes. In addition, the standards would act as a method of compliance to FAA certification and maintenance regulations for manufacturers, maintenance organizations, modifiers, third-party vendors, and any other interested party responsible for the design, modification, and maintenance of small general aviation airplanes.

4. Does the organization do product certification? If yes, what kind of products are generally involved?

5. Does the organization typically engage in product attribute development as well as standards development? If so, what kinds of products are generally involved?

6. Do members of government departments or agencies take part in the organization's standards development activities? If so, are there any members from regulatory agencies or departments?

7. Has the organization done any assessment of the market needs for electrical system wiring practices on small airplanes? If so, and the information is available, what is your assessment of categories and market sectors where the interest is likely to be high for electrical system wiring practices on small airplanes related standards?

Issued in Kansas City, Missouri, on June 6, 2003.
Michael Gallagher,
Manager, Small Airplane Directorate, Aircraft Certification Service.

[FR Doc. 03-15141 Filed 6-13-03; 8:45 am]

BILLING CODE 4910-13-P